FEDERAL COMMUNICATIONS COMMISSION

Sunshine Act Meeting

Date: March 4, 2004.

The Federal Communications Commission will hold an Open Meeting on the subjects listed below on Thursday, March 11, 2004, which is scheduled to commence at 9:30 a.m. in Room TW-C305, at 445 12th Street, SW., Washington, DC.

Item no. | Bureau | Subject
1 | Consumer & Governmental Affairs | Title: Policy and Rules Implementing the Controlling the Assault of Non-Solicited Pornography and Marketing Act of 2003; and Rules and Regulations Implementing the Telephone Consumer Protection Act of 1991 (CG Docket No. 02-278).
|  | Summary: The Commission will consider a Notice of Proposed Rulemaking and Further Notice of Proposed Rulemaking concerning rules to protect consumers from unwanted mobile service commercial messages under the CAN-SPAM Act and possible revisions to the TCPA rules involving the national do-not-call registry, respectively.
2 | International | Title: International Settlements Policy Reform (IB Docket No. 02-324); and International Settlement Rates (IB Docket No. 96-261).
|  | Summary: The Commission will consider a Report and Order to reform existing international regulatory policies governing the relationship between U.S. and foreign carriers in the provision of services over U.S. international routes.
3 | Wireline Competition | Title: Section 272(b)(1)'s “Operate Independently” Requirement for Section 272 Affiliates (WC Docket No. 03-228); Petition of SBC for Forbearance from the Prohibition of Sharing Operating, Installation, and Maintenance Functions under Sections 53.203(a)(2) and 53.203(a)(3) of the Commission's Rules and Modification of Operating, Installation, and Maintenance Conditions Contained in the SBC/Ameritech Merger Order (CC Docket Nos. 96-149 and 98-141); Petition of BellSouth Corporation for Forbearance from the Prohibition of Sharing Operating, Installation, and Maintenance Functions Under Section 53.203(a)(2)-(3) of the Commission's Rules (CC Docket No. 96-149); and Review of Regulatory Requirements for Incumbent LEC Broadband Telecommunications Services (CC Docket No. 01-337).
|  | Summary: The Commission will consider a Report and Order and Memorandum Opinion and Order concerning the Commission's rules implementing the Section 272(b)(1) “operate independently” requirement.
4 | Consumer & Governmental Affairs | Title: Rules and Regulations Implementing Minimum Customer Account Record Exchange Obligations on All Local and Interexchange Carriers.
|  | Summary: The Commission will consider a Notice of Proposed Rulemaking concerning whether the Commission should impose mandatory minimum Customer Account Record Exchange (“CARE”) obligations on all local and interexchange carriers.
5 | Wireline Competition | Title: Inquiry Concerning the Development of Advanced Telecommunications Capability to All Americans in a Reasonable and Timely Fashion, and Possible Steps to Accelerate Such Deployment Pursuant to Section 706 of the Telecommunications Act of 1996.
|  | Summary: The Commission will consider a Notice of Inquiry concerning the deployment of advanced telecommunications capability for all Americans pursuant to Section 706 of the Telecommunications Act of 1996.

Additional information concerning this meeting may be obtained from Audrey Spivack or David Fiske, Office of Media Relations, (202) 418-0500; TTY 1-888-835-5322.

Audio/Video coverage of the meeting will be broadcast live over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 04-5415 Filed 3-5-04; 3:46 pm]

BILLING CODE 6712-01-U